DEPARTMENT OF THE INTERIOR

National Park Service

[NPS-WASO-NAGPRA-22457; PPWOCRADN0-PCU00RP14.R50000]

Notice of Inventory Completion: Department of Anthropology at Indiana University, Bloomington, IN

AGENCY: National Park Service, Interior.

ACTION: Notice.

SUMMARY: The Department of Anthropology at Indiana University has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Indiana University NAGPRA Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Indiana University NAGPRA Office at the address in this notice by January 3, 2017.

ADDRESSES: Dr. Jayne-Leigh Thomas, NAGPRA Director, Indiana University, NAGPRA Office, Student Building 318, 701 E. Kirkwood Avenue, Bloomington, IN 47405, telephone (812) 856-5315, email thomajay@indiana.edu.

SUPPLEMENTARY INFORMATION: Notice is here given in accordance with the Native American Graves Protection and Repatriation Act (NAGPRA), 25 U.S.C. 3003, of the completion of an inventory of human remains under the control of the Department of Anthropology at Indiana University, Bloomington, IN.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Indiana University professional staff in consultation with representatives of the Caddo Nation, the Choctaw Nation of Oklahoma, the Jena Band of the Choctaw Indians, and the Mississippi Band of the Choctaw Indians.

History and Description of the Remains

On an unknown date, human remains representing, at minimum, 19 individuals were removed from the Woodward site in Rapides County, LA, and were subsequently delivered to the Department of Anthropology at Indiana University. The collection is listed as being possibly affiliated with the Choctaw and notes indicate it was possibly from the Woodward Forest Nursery area. During the late Historic period, a band of Choctaw individuals lived in Rapides Parish and left a cemetery near the Woodward Forest Nursery.

Woodward Place is also known as Rougeau Mounds. Material culture previously recovered from this site, specifically ceramics, has been attributed to the ancestral Caddo peoples. Additional reports have indicated that Rougeau is affiliated with the Caddo people.

Determinations Made by Indiana University

Officials of the Department of Anthropology at Indiana University have determined that:

• Pursuant to 25 U.S.C. 3001(9), the human remains described in this notice represent the physical remains of 19 individuals of Native American ancestry.

• Pursuant to 25 U.S.C. 3001(2), there is a relationship of shared group identity that can be reasonably traced between the Native American human remains and the Caddo Nation, the Choctaw Nation of Oklahoma, the Jena Band of the Choctaw Indians, and the Mississippi Band of the Choctaw Indians.

Additional Requestors and Disposition

Lineal descendants or representatives of any Indian tribe or Native Hawaiian organization not identified in this notice that wish to request transfer of control of these human remains should submit a written request with information in support of the request to Dr. Jayne-Leigh Thomas, NAGPRA Director, Indiana University, NAGPRA Office, Student Building 318, 701 E. Kirkwood Avenue, Bloomington, IN 47405, telephone (812) 856-5315, email thomajay@indiana.edu, by January 3, 2017. After that date, if no additional requestors have come forward, transfer of control of the human remains to the Caddo Nation, the Choctaw Nation of Oklahoma, the Jena Band of the Choctaw Indians, and the Mississippi Band of the Choctaw Indians may proceed.

Indiana University is responsible for notifying the Caddo Nation, the Choctaw Nation of Oklahoma, the Jena Band of the Choctaw Indians, and the Mississippi Band of the Choctaw Indians that this notice has been published.

Dated: November 18, 2016.
Melanie O'Brien,
Manager, National NAGPRA Program.

[FR Doc. 2016-28956 Filed 12-1-16; 8:45 am]

BILLING CODE 4312-52-P